DEPARTMENT OF LABOR

Employment and Training Administration

[[TA-W-56,782]

FC Meyer Packaging, LLC/Millen Industries, Inc.; Lawrence, MA; Notice of Negative Determination Regarding Application for Reconsideration

By application of May 20, 2005, a petitioner requested administrative reconsideration of the Department's negative determination regarding eligibility to apply for Trade Adjustment Assistance (TAA), applicable to workers and former workers of the subject firm. The denial notice was signed on May 6, 2005, and published in the Federal Register on May 25, 2005 (70 FR 30145).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of FC Meyer Packaging, LLC/Millen Industries, Inc., Lawrence, Massachusetts engaged in production of shoe boxes was denied because the “contributed importantly” group eligibility requirement of Section 222 of the Trade Act of 1974, as amended, was not met, nor was there a shift in production from that firm to a foreign country. The “contributed importantly” test is generally demonstrated through a survey of the workers' firm's customers. The survey revealed that imports of shoe boxes were minimal during the relevant period and imports did not contribute importantly to separations at the subject firm. The subject firm did not import shoe boxes nor did it shift production to a foreign country during the relevant period.

The petitioner alleges that the subject firm lost its business due to the customers shifting their production of shoes abroad and buying shoe boxes overseas.

The petitioner concludes that, because the production of shoes occurs abroad, the subject firm workers producing shoe boxes are import impacted.

In order to establish import impact, the Department must consider imports that are like or directly competitive with those produced at the subject firm. The Department conducted a survey of the subject firm's major declining customer regarding their purchases of shoe boxes. The survey revealed that the declining customers did not import shoe boxes during the relevant period.

The petitioner further cites a list of customers which shifted their production overseas and imported shoe boxes back to the United States.

Some of these customers were already surveyed by the Department during the original investigation. A review of the survey responses confirms import purchases of show boxes were minimal and did not contribute importantly to the layoffs at the subject plant during the relevant period.

A company official was contacted to verify the allegations regarding the customers which were not surveyed during the initial investigation. The official stated that all of these companies were customers of the subject firm in the years prior to 2001, which is outside of the relevant time period.

Conclusion

After review of the application and investigative findings, I conclude that there has been no error or misinterpretation of the law or of the facts which would justify reconsideration of the Department of Labor's prior decision. Accordingly, the application is denied.

Signed at Washington, DC day 22nd of June, 2005.
Elliott S. Kushner,
Certifying Officer, Division of Trade Adjustment Assistance.

[FR Doc. E5-3739 Filed 7-13-05; 8:45 am]

BILLING CODE 4510-30-P